INTERNATIONAL TRADE COMMISSION

[Investigation No. 731-TA-865-867 (Third Review)]

Stainless Steel Butt-Weld Pipe Fittings From Italy, Malaysia, and the Philippines

Determinations

On the basis of the record ¹ developed in the subject five-year reviews, the United States International Trade Commission (“Commission”) determines, pursuant to the Tariff Act of 1930 (“the Act”), that revocation of the antidumping duty orders on stainless steel butt-weld pipe fittings from Italy, Malaysia, and the Philippines would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on June 1, 2017 (82 FR 25324) and determined on September 5, 2017 that it would conduct expedited reviews (82 FR 46524, October 5, 2017).

The Commission made these determinations pursuant to section 751(c) of the Act (19 U.S.C. 1675(c)). It completed and filed its determinations in these reviews on January 8, 2018. The views of the Commission are contained in USITC Publication 4751 (January 2018), entitled Stainless Steel Butt-Weld Pipe Fittings from Italy, Malaysia, and the Philippines: Investigation Nos. 731-TA-865-867 (Third Review).

By order of the Commission.
Issued: December 15, 2017.
Lisa R. Barton,
Secretary to the Commission.

[FR Doc. 2017-27391 Filed 12-19-17; 8:45 am]

BILLING CODE 7020-02-P